DEPARTMENT OF LABOR

Employment and Training Administration

[TA-W-39,953]

Zexel Valeo Compressor USA, Decatur, Illinois; Amended Certification Regarding Eligibility To Apply for Worker Adjustment Assistance

In accordance with Section 223 of the Trade Act of 1974 (19 U.S.C. 2273) the Department of Labor issued a Certification of Eligibility to Apply for Worker Adjustment Assistance on October 2, 2001, applicable to workers of Zexel Valeo Compressor USA, Decatur, Illinois. The notice was published in the Federal Register on October 19, 2001 (66 FR 53251).

At the request of a company official, the Department reviewed the certification for workers of the subject firm. The workers were engaged in the production of automotive air conditioning compressors until the company ceased production by the end of 2001.

New information shows that workers were retained at the subject firm beyond the October 2, 2003 expiration date of the certification. These employees will complete the close-down process until their termination on December 31, 2003. Based on these findings, the Department is amending the certification to extend the October 2, 2003 expiration date for TA-W-39,953 to read December 31, 2003.

The intent of the Department's certification is to include all workers of Zexel Valeo Compressor USA who were adversely affected by increased imports.

The amended notice applicable to TA-W-39,953 is hereby issued as follows:

“All workers of Zexel Valeo Compressor USA, Inc., Decatur, Illinois, who became totally or partially separated from employment on or after August 17, 2000, through December 31, 2003, are eligible to apply for adjustment assistance under Section 223 of the Trade Act of 1974.”

Signed at Washington, DC, this 5th day of December 2003.
Linda G. Poole,
Certifying Officer, Division of Trade Adjustment Assistance.

[FR Doc. 04-298 Filed 1-6-04; 8:45 am]

BILLING CODE 4510-30-P